SOCIAL SECURITY ADMINISTRATION

Privacy Act of 1974 as Amended; Computer Matching Program (SSA/State Department(s) for Health and Income Maintenance) for Disclosure of Medicaid Information (Match #1085)

AGENCY: Social Security Administration (SSA).

ACTION: Notice of computer matching program.

SUMMARY: In accordance with the provisions of the Privacy Act, as amended, this notice announces a computer matching program that SSA plans to conduct.

DATES: SSA will file a report of the subject matching program with the Committee on Governmental Affairs of the Senate, the Committee on Government Operations of the House of Representatives and the Office of Information and Regulatory Affairs, Office of Management and Budget (OMB). The matching program will be effective as indicated below.

ADDRESSES: Interested parties may comment on this notice by either telefax to (410) 597-0841, or writing to the Associate Commissioner for Program Support, 4400 West High Rise, 6401 Security Boulevard, Baltimore, MD 21235.

All comments received will be available for public inspection at this address.

FOR FURTHER INFORMATION CONTACT: The Associate Commissioner for Program Support as shown above.

SUPPLEMENTARY INFORMATION:

A. General

The Computer Matching and Privacy Protection Act of 1988 [Public Law (Pub. L.)100-503], amended the Privacy Act (5 U.S.C. 552a) by describing the manner in which computer matching involving records of Federal and State agencies could be performed and adding certain protections for individuals applying for and receiving State administered Federal benefits. Section 7201 of the Omnibus Budget Reconciliation Act of 1990 (Pub. L.101-508), further amended the Privacy Act regarding protections for such individuals. The Privacy Act, as amended, regulates the use of computer matching by Federal agencies when records in a system of records are matched with other Federal, State or local government records. It requires Federal agencies involved in computer matching programs to:

(1) Negotiate written agreements with the other agency or agencies ‘ participating in the matching programs;

(2) Obtain the approval of the match agreements by the Data Integrity Boards of the participating Federal Agency;

(3) Furnish detailed reports about matching programs to Congress and OMB;

(4) Notify applicants and beneficiaries that their records are subject to matching; and

(5) Verify match findings before reducing, suspending, terminating or denying an individual’s benefits or payments.

B. SSA Computer Matches Subject to the Privacy Act

We have taken action to ensure that all of SSA's computer matching programs comply with the requirements of the Privacy Act, as amended.

Dated: March 20, 2000.
Susan M. Daniels,
Deputy Commissioner for Disability, and Income Security Programs.

Notice of Computer Matching Program, Social Security Administration (SSA) with State Health and Income Maintenance Agencies

A. Participating Agencies

SSA and State Health/Income Maintenance Agencies

B. Purpose of the Matching Program

To identify eligible Supplemental Security Income (SSI) Medicaid enrollees whose records have been inactive for a set period of at least nine consecutive months. Records of individual recipients who meet the aforementioned criteria will be disclosed for SSA to review the accuracy of SSI eligibility factors. This disclosure will ensure that SSA has accurate information upon which to base decisions for the SSI program.

C. Authority for Conducting the Matching Programs

Section 1611(f) (41 U.S.C. 1382), 1616 (42 U.S.C. 1382e), 1631(e) (42 U.S.C. 1383), and section 1137 (42 U.S.C. 1320b-7) of the Social Security Act.

D. Categories of Records and Individuals Covered by the Matching Program

SSA systems of records used for the purposes of this agreement will be the Supplemental Security Income Record (SSR) (SSA/OSR 09-60-0103), and the State Data Exchange system (SDX). The SDX derives data from the SSR. The State health/income maintenance agency will identify eligible SSI Medicaid enrollees whose records have been inactive for at least one year. Selected records will be disclosed to SSA to review for accuracy of eligibility factors. The disclosure will ensure that SSA has accurate information on which to base its entitlement decisions for the SSI program.

E. Inclusive Dates of the Match

The matching program shall become effective 40 days after notice of this matching program is sent to Congress and OMB, or 30 days after publication of this notice in the Federal Register, whichever date is later. The matching program will continue for 18 months from the effective date and may be extended for an additional 12 months thereafter, if certain conditions are met.

[FR Doc. 00-7602 Filed 3-27-00; 8:45 am]

BILLING CODE 4191-02-U